DEPARTMENT OF THE INTERIOR

Fish and Wildlife Service

[FWS-R2-ES-2009-N0038; 20124-1113-0000-F5]

Endangered and Threatened Species Permit Applications

AGENCY: Fish and Wildlife Service, Interior.

ACTION: Notice of receipt of applications.

SUMMARY: The following applicants have applied for scientific research permits to conduct certain activities with endangered species under the Endangered Species Act of 1973, as amended (Act).

DATES: To ensure consideration, written comments must be received on or before March 30, 2009.

ADDRESSES: Written comments should be submitted to the Chief, Endangered Species Division, Ecological Services, P.O. Box 1306, Room 6034, Albuquerque, New Mexico 87103. Documents and other information submitted with these applications are available for review, subject to the requirements of the Privacy Act and Freedom of Information Act. Documents will be available for public inspection, by appointment only, during normal business hours at the U.S. Fish and Wildlife Service, 500 Gold Ave. SW., Room 6034, Albuquerque, New Mexico. Please refer to the respective permit number for each application when submitting comments.

FOR FURTHER INFORMATION CONTACT: Susan Jacobsen, Chief, Endangered Species Division, P.O. Box 1306, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-157587

Applicant: Southwestern Ecological Research Company, Tucson, Arizona.

Applicant requests an amendment to a current permit for research and recovery purposes to conduct presence/absence surveys of the following species: razorback sucker (Xyracuchen texanus) within Texas.

Permit TE-205717

Applicant: Valerie Collins, San Antonio, Texas.

Applicant requests a new permit for research and recovery purposes to conduct presence/absence surveys of the following species: ocelot (Leopardis (=Felis) pardalis), jaguarundi (Felis Yagouaroundi), Attwater's greater prairie-chicken (Tympanuchus cupido attwateri), golden-cheeked warbler (Dendroica chrysoparia) and black-capped vireo (Vireo atricapillus), northern aplomado falcon (Falco femoralis septentrionalis), brown pelican (Pelecanus occidentalis), interior least tern (Sterna antillarum), red-cockaded woodpecker (Picoides ( = Denrocopos) borealis), Houston toad (Bufo houstonensis), San Marcos gambusia (Gambusia georgei), fountain darter (Etheostoma fonticola) Peck's Cave amphipod (Stygobromus peckii), Comal Spring dryopid beetle (Stygoparnus comalensis), Coffin Cave mold beetle (Batrisodes texanus), Helotes mold beetle (Batrisodes venyivi), Comal Springs riffle beetle (Heterelmis comalensis), ground beetle (Rhadine exilis), ground beetle (Rhadine infernalis), Tooth Cave ground beetle (Rhadine persephone), Robber Baron Cave meshweaver (Cicurina baronia), Madla Cave meshweaver (Cicurina venii), Braken Bat Cave mesheweaver (Cicurina venii), Government Canyon Bat Cave meshweaver (Cicurina vespera), Government Canyon Bat Cave spider (Neoleptoneta microps), Tooth Cave spider (Neoleptoneta myopica) and Texas trailing phlox (Phlox nivalis texensis) within Texas.

Permit TE-205731

Applicant: Kevin Brix, Miami, Florida.

Applicant requests a new permit for research and recovery purposes to captively breed and conduct scientific research of desert pupfish (Cyprinodon macularius) at the University of Miami, Florida.

Permit TE-205904

Applicant: Heritage Environmental Consultants, Denver, Colorado.

Applicant requests a new permit for research and recovery purposes to conduct presence/absence surveys of the following species: southwestern willow flycatcher (Empidonax taillii extimus), Yuma clapper rail (Rallus longirostris yumanensis), and black-footed ferret (Mustela nigripes) within Colorado, Utah, Arizona, New Mexico, Nevada, California, Nebraska, and Kansas.

Permit TE-206016

Applicant: Andrew Middick, Edmond, Oklahoma.

Applicant requests a new permit for research and recovery purposes to conduct presence/absence surveys of American burying beetles (Nicophorus americanus) within Oklahoma, Nebraska, Arkansas, and Kansas.

Permit TE-800900

Applicant: Lower Colorado River Authority, Austin, Texas.

Applicant requests an amendment to a current permit for research and recovery purposes to conduct presence/absence surveys of northern aplomado falcon (Falco femoralis septentrionalis), southwestern willow flycatcher (Empidonax taillii extimus), and interior least tern (Sterna antillarum) within Texas.

Authority: 16 U.S.C. 1531 et seq.

Dated: February 19, 2009.
Thomas Bauer,
Acting Regional Director, Southwest Region, Fish and Wildlife Service.

[FR Doc. E9-4211 Filed 2-26-09; 8:45 am]

BILLING CODE 4310-55-P